INTERNATIONAL TRADE COMMISSION

[Investigation No. 332-575]

Seafood Obtained via Illegal, Unreported, and Unregulated Fishing: U.S. Imports and Economic Impact on U.S. Commercial Fisheries; Notice of Postponement of Public Hearing, Dates for Filing Written Submissions

AGENCY: United States International Trade Commission.

ACTION: Notice of postponement of public hearing.

SUMMARY: Notice is hereby given that the U.S. International Trade Commission has postponed, to dates to be determined, the public hearing and filing dates for written submissions in Investigation No. 332-575, Seafood Obtained via Illegal, Unreported, and Unregulated Fishing: U.S. Imports and Economic Impact on U.S. Commercial Fisheries due to COVID-19.

SUPPLEMENTARY INFORMATION: The Commission published notice of institution of the investigation in the Federal Register on January 31, 2020 (85 FR 5704, January 31, 2020). In that notice, the Commission announced that it would hold a public hearing on May 12, 2020, and it also set dates by which requests to appear at the hearing, briefs, and other written submissions should be filed. However, due to COVID-19, the Commission has postponed the hearing to a date to be determined. The Commission will publish notice in the Federal Register, when circumstances permit, of a new date for the public hearing as well as new dates by which requests to appear at the hearing, briefs, and other written submissions should be filed. Pending publication of new dates, the Commission welcomes the filing of any written submissions relevant to this investigation. Such submissions must be filed in electronic form; the Commission cannot accept paper filings at this time.

FOR FURTHER INFORMATION CONTACT: Project Leader Renee Berry (202-205-3498 or renee.berry@usitc.gov) or Deputy Project Leader Daniel Matthews (202-205-5991 or daniel.matthews@usitc.gov) for information specific to this investigation. For hearing-related information, contact Lisa R. Barton, Secretary to the Commission, U.S. International Trade Commission, 500 E Street SW, Washington, DC 20436, telephone (202) 205-2000. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its internet server (http://www.usitc.gov). Persons with mobility impairments who will need special assistance in gaining access to the Commission should contact the Office of the Secretary at 202-205-2000.

By order of the Commission.
Issued: April 13, 2020.
Lisa Barton,
Secretary to the Commission.

[FR Doc. 2020-08100 Filed 4-16-20; 8:45 am]

BILLING CODE 7020-02-P